JUDICIAL CONFERENCE OF THE UNITED STATES

Hearings of the Judicial Conference Advisory Committee on Rules of Bankruptcy Procedure

AGENCY: Judicial Conference of the United States, Advisory Committee on Rules of Bankruptcy Procedure.

ACTION: Notice of cancellation of public hearing.

SUMMARY: The following public hearing on proposed amendments to the Federal Rules of Bankruptcy Procedure has been canceled: Bankruptcy Rules Hearing, February 6, 2015, in Pasadena, California. Announcements for this meeting were previously published in 79 FR 48250 and 79 FR 72702.

FOR FURTHER INFORMATION CONTACT: Jonathan C. Rose, Secretary and Chief Rules Officer, Rules Committee Support Office, Administrative Office of the United States Courts, Washington, DC 20544, telephone (202) 502-1820.

Dated: January 22, 2015.
Jonathan C. Rose,
Secretary and Chief Rules Officer.

[FR Doc. 2015-01518 Filed 1-27-15; 8:45 am]

BILLING CODE 2210-55-P